Title 3—

The President

Proclamation 9936 of September 30, 2019

National Breast Cancer Awareness Month, 2019

By the President of the United States of America

A Proclamation

During National Breast Cancer Awareness Month, our Nation honors the courage and strength of the over 3.4 million Americans who are battling this terrible disease and remembers loved ones whose lives have been affected by breast cancer. In memory of those we have lost, we pledge never to waver from our ongoing search for effective and innovative medical advancements to treat and prevent this disease.

In the United States, more than 268,000 women and approximately 2,600 men are diagnosed with breast cancer annually. While deaths from breast cancer have declined over time, it remains the second most common form of cancer and the second leading cause of cancer death overall among American women, with a staggering 41,000 lives lost each year. For this reason, Melania and I urge our fellow Americans, especially those who have a family history or may be at increased risk, to consult with their healthcare providers about the individual likelihood of developing breast cancer. Early detection and regular screening mammograms, followed by timely treatment upon diagnosis, can significantly improve a patient's chance of survival.

My Administration continues to support the cutting-edge research needed to develop treatments that may save the lives of breast cancer patients. Since my first day in office, I have eliminated burdensome regulations, allowing researchers to more easily develop new drugs that can be approved quickly by the Food and Drug Administration (FDA). Just this year, the FDA has approved several new therapies for the treatment of breast cancer. Additionally, last year, I signed into law the Federal “Right to Try” legislation, which allows those diagnosed with a terminal illness greater access to lifesaving drugs. The expanded options for patients also allow researchers to better understand the safety and effectiveness of new approaches to treatment, bringing us closer to defeating breast cancer completely.

This month, and throughout the year, we join together in support of our fellow Americans diagnosed with breast cancer, those who are in remission, and those who have lost loved ones to this disease. We also commend the skilled medical professionals and dedicated researchers who provide quality treatment and care to women and men across our country. As one Nation, we will continue to strive for a future in which every American may enjoy a long, healthy life free from the threat of cancer.

NOW, THEREFORE, I, DONALD J. TRUMP, President of the United States of America, by virtue of the authority vested in me by the Constitution and the laws of the United States, do hereby proclaim October 2019 as National Breast Cancer Awareness Month. I encourage citizens, government agencies, private businesses, nonprofit organizations, the media, and other interested groups to increase awareness of how Americans can fight breast cancer. I also invite the Governors of the States and Territories and officials of other areas subject to the jurisdiction of the United States to join me in recognizing National Breast Cancer Awareness Month.

IN WITNESS WHEREOF, I have hereunto set my hand this thirtieth day of September, in the year of our Lord two thousand nineteen, and of the Independence of the United States of America the two hundred and forty-fourth.

[FR Doc. 2019-21760

Filed 10-2-19; 11:15 am]

Billing code 3295-F0-P